ENVIRONMENTAL PROTECTION AGENCY

[FRL-7573-5]

Gulf of Mexico Program Citizens Advisory Committee Meeting

AGENCY: Environmental Protection Agency ( EPA).

ACTION: Notice of meeting.

SUMMARY: Under the Federal Advisory Committee Act (Pub. L. 92-463), EPA gives notice of a meeting of the Gulf of Mexico Program (GMP) Citizens Advisory Committee (CAC).

DATES: The meeting will be held on Tuesday, November 4, 2003, 12 p.m. to 5 p.m., and on Wednesday, November 5, 2003, from 8:30 a.m. to 3 p.m.

ADDRESSES: The meeting will be held at the Holiday Inn on the Beach, 5002 Seawall Boulevard, Galveston, Texas 77551. (409-740-3581).

FOR FURTHER INFORMATION CONTACT: Gloria D. Car, Designated Federal Officer, Gulf of Mexico Program Office, Mail Code EPA/GMPO, Stennis Space Center, MS 39529-6000 at (228) 688-2421.

SUPPLEMENTARY INFORMATION: Agenda items include: GMP's Role in Implementation of the Hypoxia Action Plan, GMP Outreach and Education, Citizen's Role in Gulf Guardian Awards Process, CAC Strategic Planning FY 2004-2005.

The meeting is open to the public.

Dated: October 6, 2003.
Gloria D. Car,
Designated Federal Officer.

[FR Doc. 03-25937 Filed 10-10-03; 8:45 am]

BILLING CODE 6560-50-P